DEPARTMENT OF LABOR

Employment and Training Administration

[TA-W-50,366]

Agere Systems, Inc., Optoelectronics Division, Formerly Lucent Technologies, Inc's Microelectronics Business, Breinigsville, Pennsylvania; Notice of Revised Determination on Reconsideration

On May 12, 2003, the Department issued an Affirmative Determination Regarding Application on Reconsideration applicable to workers and former workers of the subject firm. The notice was published in the Federal Register on May 29, 2003 (68 FR 32124).

On January 27, 2003 the Department initially denied TAA to workers of Agere Systems, Inc., Optoelectronics Division, formerly Lucent Technologies, Inc.'s Microelectronics Division, Breinigsville, Pennsylvania producing optoelectronic devices because the “contributed importantly” group eligibility requirement of Section 222 of the Trade Act of 1974, was not met.

On reconsideration, the department surveyed additional customers of the subject plant regarding their purchases of optoelectronic devices during the 2001 and 2002 period. The survey revealed that major declining customer(s) increased their reliance on imports of optoelectronic devices in the relevant period.

Conclusion

After careful review of the additional facts obtained on reconsideration, I conclude that increased imports of articles like or directly competitive with optoelectronic devices, contributed importantly to the declines in sales or production and to the total or partial separation of workers of Agere Systems, Inc., Optoelectronics Division, formerly Lucent Technologies, Inc.'s Microelectronics Division, Breinigsville, Pennsylvania. In accordance with the provisions of the Act, I make the following certification:

All workers of Agere Systems, Inc., Optoelectronics Division, formerly Lucent Technologies, Inc., Microelectronics Division, Breinigsville, Pennsylvania who became totally or partially separated from employment on or after December 9, 2001 through two years of this certification, are eligible to apply for adjustment assistance under Section 223 of the Trade Act of 1974.

Signed in Washington, DC this 18th day of July 2003.
Elliott S. Kushner,
Certifying Officer, Division of Trade Adjustment Assistance.

[FR Doc. 03-19856 Filed 8-4-03; 8:45 am]

BILLING CODE 4510-30-P